DEPARTMENT OF ENERGY

Federal Energy Regulatory Commission

[Docket No. CP24-60-000]

Northern Natural Gas Company; Notice of Schedule for the Preparation of an Environmental Assessment for the Northern Lights 2025 Expansion Project

On February 16, 2024, Northern Natural Gas Company (Northern) filed an application in Docket No. CP24-60-000 requesting a Certificate of Public Convenience and Necessity and authorization pursuant to Section 7 of the Natural Gas Act to abandon, construct, and operate certain natural gas pipeline facilities. The proposed project is known as the Northern Lights 2025 Expansion Project (Project), and Northern states it would provide 46,064 dekatherms per day serving residential, commercial, and industrial customer market growth in Northern's Market Area.

On February 29, 2024, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹

¹ 40 CFR 1501.10 (2020).

Schedule for Environmental Review

Issuance of EA—September 13, 2024

90-day Federal Authorization Decision Deadline ²—December 12, 2024

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

Northern proposes to construct and operate about 8.6 miles of pipeline extensions, and associated ancillary and auxiliary equipment in Freeborn, Houston, and Washington Counties, Minnesota, and Monroe County, Wisconsin.

The Northern Lights 2025 Expansion Project would consist of the following facilities:

• 3.0-mile-long extension of its 36-inch-diameter Lake Mills to Albert Lea E Line;

• 2.43-mile-long extension of its 30-inch-diameter Elk River 3rd Branch Line;

• a non-contiguous 1.91-mile-long extension of its 30-inch-diameter Farmington to Hugo C-Line;

• 1.28-mile-long extension of its 8-inch-diameter Tomah Branch Line Loop;

• one pig new launcher,³ valves, and piping inside its existing Hugo Compressor Station;

³ A “pig” is a tool that the pipeline company inserts into and pushes through the pipeline for cleaning the pipeline, conducting internal inspections, or other purposes.

• minor piping modifications within its existing La Crescent Compressor Station;

• relocation of one pig receiver facility;

• three new valve settings and associated valves and piping;

• removal of three existing tie-in valve settings;

• abandonment and removal of 275 feet of its existing 30-inch diameter Elk River 3rd branch line; and

• and other appurtenant facilities.

Background

On March 26, 2024, the Commission issued a Notice of Scoping Period Requesting Comments on Environmental Issues for the Proposed Northern Lights 2025 Expansion Project (Notice of Scoping). The Notice of Scoping was sent to affected landowners; federal, state, and local government agencies; elected officials; environmental and public interest groups; Native American tribes; other interested parties; and local libraries, churches, and newspapers. All substantive comments will be addressed in the EA.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP24-60), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 5, 2024.
Debbie-Anne A. Reese,
Acting Secretary.

[FR Doc. 2024-07735 Filed 4-10-24; 8:45 am]

BILLING CODE 6717-01-P